DEPARTMENT OF LABOR

Employment and Training Administration

Investigations Regarding Certifications of Eligibility To Apply for NAFTA Transitional Adjustment Assistance

Petitions for transitional adjustment assistance under the North American Free Trade Agreement-Transitional Adjustment Assistance Implementation Act (P.L. 103-182), hereinafter called (NAFTA-TAA), have been filed with State Governors under Section 250(b)(1) of Subchapter D, Chapter 2, Title II, of the Trade Act of 1974, as amended, are identified in the Appendix to this Notice. Upon notice from a Governor that an NAFTA-TAA petition has been received, the Director of the Division of Trade Adjustment Assistance (DTAA), Employment and Training Administration (ETA), Department of Labor (DOL), announces the filing of the petition and takes action pursuant to paragraphs (c) and (e) of Section 250 of the Trade Act.

The purpose of the Governor's actions and the Labor Department's investigations are to determine whether the workers separated from employment on or after December 8, 1993 (date of enactment of P.L. 103-182) are eligible to apply for NAFTA-TAA under Subchapter D of the Trade Act because of increased imports from or the shift in production to Mexico or Canada.

The petitioners or any other persons showing a substantial interest in the subject matter of the investigations may request a public hearing with the Director of DTAA at the U.S. Department of Labor (DOL) in Washington, D.C. provided such request if filed in writing with the Director of DTAA not later than March 6, 2000.

Also, interested persons are invited to submit written comments regarding the subject matter of the petitions to the Director of DTAA at the address shown below not later than March 6, 2000.

Petitions filed with the Governors are available for inspection at the Office of the Director, DTAA, ETA, DOL, Room C-4318, 200 Constitution Avenue, N.W. Washington, D.C. 20210.

Signed at Washington, D.C. this 15th day of February, 2000.

Grant D. Beale,
Program Manager, Division of Trade Adjustment Assistance.

Appendix
Subject firm and location | Date received at Governor's Office | Petition No. | Articles produced
Victor Equipment (Co.), Denton, TX | 01/28/2000 | NAFTA-3,689 | Gas apparatus.
Victor Equipment (Co.), Abilene, TX | 01/28/2000 | NAFTA-3,689 | Gas apparatus.
Tweco Products (Co.), Wichita, KS | 01/31/2000 | NAFTA-3,690 | Welding accessories.
S. Bent and Brothers (IUE), Gardner, MA | 01/31/2000 | NAFTA-3,691 | Wooden chairs, tables and case pieces.
Western Moulding (Co.), Snowflake, AZ | 01/28/2000 | NAFTA-3692 | Wood mouldings.
Lower Umpqua Federal Credit Union (Co.), Reedsport, OR | 01/27/2000 | NAFTA-3,693 | Credit union.
Noblesville Casting Division (UAW), Noblesville, IN | 01/13/2000 | NAFTA-3,694 | Jobbing foundry.
White Consolidated Industries (IAMAW), Bloomington, IL | 01/31/2000 | NAFTA-3,695 | Vacuum cleaner parts.
North Carolina Embroidery (Co.), High Point, NC | 01/23/2000 | NAFTA-3,696 | Contract embroidery.
O'Bryan Brothers (Wkrs), Richland Center, WI | 01/12/2000 | NAFTA-3,697 | Women's underwear and day wear.
Jantzen-Nordic Group (Wkrs), Vancouver, WA | 01/28/2000 | NAFTA-3,698 | Swimwear and garment.
Griffin Pipe Products (Co.), Lynchburg, Va | 01/31/2000 | NAFTA-3,699 | Fittings for ductile iron pressure pipe.
Standard Candy (Wkrs), Nashville, TN | 01/31/2000 | NAFTA-3,700 | Hard candy.
Monterey (UNITE), Janesville, WI | 01/28/2000 | NAFTA-3,701 | Fabric and coats.
Shelby Yarn (Co.), Shelby, NC | 01/31/2000 | NAFTA-3,702 | Yarn.
Humpty Dumpty Potato Chips (Co.), Scarborough, ME | 01/31/2000 | NAFTA-3,703 | Potato chips.
Linden Apparel (Wkrs), Allenton, PA | 01/31/2000 | NAFTA-3,704 | Knit golfshirts, polo shirts.
Thaw Corporation—Snow Creek (Co.), Wenatchee, WA | 02/03/2000 | NAFTA-3,705 | Recreational garments.
Danskin (Wkrs), York, PA | 02/02/2000 | NAFTA-3,706 | Women's apparel.
Custom Packaging Systems (Co.), Manistee, MI | 01/19/2000 | NAFTA-3,707 | Polyethylene bulk bags & liner.
Wheat Montana Farms and Bakery (Wkrs), Three Forks, MT | 02/03/2000 | NAFTA-3,708 | Flour, wheat and grains.
Boyt Harness Company (Wkrs), Arlington, SD | 02/01/2000 | NAFTA-3,709 | Hunting pants.
U.S. Leather (IBT), Milwaukee, WI | 02/04/2000 | NAFTA-3,710 | Shoes, botts, belts, patches.
Cadillac Curtain (Co.), Dyer, TN | 02/07/2000 | NAFTA-3,711 | Kitchen curtains.
Medtronic Perfusion Systems (Wkrs), Minneapolis, MN | 02/08/2000 | NAFTA-3,712 | Custom tubing pack.
Wolverine Tube (Wkrs), Roxboro, NC | 02/07/2000 | NAFTA-3,713 | Copper tubes.
Eastman Kodak (Co.), Rochester, NY | 01/20/2000 | NAFTA-3,714 | Document retrieval.
G and M Cutting Room Service (UNITE), El Paso, TX | 02/08/2000 | NAFTA-3,715 | Cut pants and shirts.
Wharton Knitting Mills (Wkrs), Ridgewood, NY | 01/26/2000 | NAFTA-3,716 | Men and women sweaters.
Mitec Wireless (Co.), Tinton Fall, NJ | 02/09/2000 | NAFTA-3,717 | Radio frequency amplifiers.
Oneida Limited (Wkrs), Sherrly, NY | 02/11/2000 | NAFTA-3,718 | Brass products.
Burlington Industries Transportation (Wkrs), Belmont, NC | 02/11/2000 | NAFTA-3,719 | Fabric and carpet.
Ikeda Interior Systems (Wkrs), Sidney, OH | 02/10/2000 | NAFTA-3,720 | Sewing and cutting.
Rockwell Automation (IUE), Euclide, OH | 02/10/2000 | NAFTA-3,721 | Control cabinets.
ITT Jabsco (IBT), Springfield, OH | 02/10/2000 | NAFTA-3,722 | Marine products.
Lees Curtain (Wkrs), Mansfield, MO | 02/09/2000 | NAFTA-3,723 | Curtains.
KeyBank USA (Wkrs), Albany, NY | 02/04/2000 | NAFTA-3,724 | Collection of delinquent loans.
Ochoco Lumber-Malhenr Lumber (Wkrs), John Day, OR | 02/08/2000 | NAFTA-3,725 | Finished lumber.
Trico Products (Wkrs), Lawrenceburg, TN | 02/07/2000 | NAFTA-3,726 | Windshield wiper blades.
Johnstown Knitting Mill (Co.), Johnstown, NY | 02/08/2000 | NAFTA-3,727 | Activewear and knitwear.
Sullivan Die Casting (Wkrs), Kenilworth, NJ | 02/14/2000 | NAFTA-3,728 | Auto mirror casting, sunroof casting.
America Sewn Product (Wkrs), Bremerton, WA | 02/10/2000 | NAFTA-3,729 | Customise bags.
Tibergon (Co.), Redmond, OR | 02/14/2000 | NAFTA-3,730 | Flat jambs, split jambs.

[FR Doc. 00-4513 Filed 2-24-00 8:45 am]

BILLING CODE 4510-30-M